DEPARTMENT OF ENERGY

Federal Energy Regulatory Commission

[Docket No. EL01-2-000]

CAlifornians for Renewable Energy, Inc. (CARE), Complainant

October 11, 2000.

CAlifornians for Renewable Energy, Inc. (CARE), Complainant, v. Independent Energy Producers, Inc. and All Sellers of Energy and Ancillary Services Into the Energy and Ancillary Services Markets Operated by the California Independent System Operator Corporation and the California Exchange; All Scheduling Coordinators Acting On Behalf of the above Sellers; California Independent System Operator Corporation; and California Power Exchange Corporation, Respondents; Notice of Complaint

Take notice that on October 6, 2000, CAlifornians for Renewable Energy, Inc. (CARE), tendered for filing with the Federal Energy Regulatory Commission (Commission) a Complaint pursuant to Section 206 of the Federal power Act, U.S.C. § 824e, and Rule 206 of the Commission's Rules of Practice and Procedure, 18 CFR 385.206.

CARE requests that the Commission rectify unjust and unreasonable prices stemming from wholesale markets for energy and ancillary services operated by the California Independent System Operator (CALISO) and the California Power Exchange (CALPX). CARE further requests that the Commission find that the wholesale markets in California are not currently workably competitive. CARE also requests that the Commission investigate and make findings concerning the rolling power outages in the San Francisco Bay Area on June 14, 2000.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 26, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before October 26, 2000.

David P. Boergers,
Secretary.

[FR Doc. 00-26617 Filed 10-16-00; 8:45 am]

BILLING CODE 6717-01-M